DEPARTMENT OF COMMERCE

National Oceanic and Atmospheric Administration

RIN 0648-XD550

North Pacific Fishery Management Council (NPFMC); Public Meeting

AGENCY: National Marine Fisheries Service (NMFS), National Oceanic and Atmospheric Administration (NOAA), Commerce.

ACTION: Notice of a public meeting.

SUMMARY: The North Pacific Fishery Management Council (Council) Charter Implementation Committee will convene October 29, 2014, from 9-5 p.m. via teleconference. Listening site, North Pacific Fishery Management Council conference room 205 or dial 907-271-2896.

DATES: The teleconference will be held on October 29, 2014, 9 a.m.-5 p.m. (AKDT).

ADDRESSES: The teleconference will be held at the North Pacific Fishery Management Council, 605 W 4th Avenue, Room 205, Anchorage, AK.

Council address: North Pacific Fishery Management Council, 605 W. 4th Ave. Suite 306, Anchorage, AK 99501-2252.

FOR FURTHER INFORMATION CONTACT: Steve MacLean, Council staff; telephone: (907) 271-2809.

SUPPLEMENTARY INFORMATION: The agenda is to identify a range of potential management measures for the Area 2C and Area 3A charter halibut fisheries in 2015, using the management measures in place for 2014 as a baseline. For Area 2C, the baseline management measure is a daily limit of one fish less than 44 inches or greater than 76 inches in length. For Area 3A, the baseline management measure is a daily limit of two fish, one fish of any size, and a second fish which must be 29 inches or less in length. Committee recommendations will be incorporated into an analysis for Council review in December 2014. The Council will recommend preferred management measures for consideration by the International Pacific Halibut Commission at its January 2015 meeting, for implementation in 2015.

Although non-emergency issues not contained in this agenda may come before this group for discussion, those issues may not be the subject of formal action during this meeting. Action will be restricted to those issues of this notice that require emergency action under section 305(c)of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: October 9, 2014.
Tracey L. Thompson,
Acting Deputy Director, Office of Sustainable Fisheries, National Marine Fisheries Service.

[FR Doc. 2014-24477 Filed 10-14-14; 8:45 am]

BILLING CODE 3510-22-P